SECURITIES AND EXCHANGE COMMISSION

[Release No. 34-67962; File No. SR-NYSEArca-2012-37]

Self-Regulatory Organizations; NYSE Arca, Inc.; Notice of Designation of Longer Period for Commission Action on Proceedings To Determine Whether To Approve or Disapprove Proposed Rule Change Proposing a Pilot Program To Create a Lead Market Maker Issuer Incentive Program for Issuers of Certain Exchange-Traded Products Listed on NYSE Arca, Inc.

October 2, 2012.

On April 27, 2012, NYSE Arca, Inc. (“Exchange” or “NYSE Arca”) filed with the Securities and Exchange Commission (“Commission”), pursuant to Section 19(b)(1) of the Securities Exchange Act of 1934 (“Act”) ¹ and Rule 19b-4 thereunder,² a proposed rule change to create and implement, on a pilot basis, a Lead Market Maker (“LMM”) Issuer Incentive Program (“Fixed Incentive Program”) for issuers of certain exchange-traded products (“ETPs”) listed on the Exchange. The proposed rule change was published for comment in the Federal Register on May 17, 2012.³ The Commission initially received two comment letters on the proposal.⁴ On June 20, 2012, pursuant to Section 19(b)(2) of the Act,⁵ the Commission extended the time period for Commission action on the proposed rule change to August 15, 2012.⁶ The Commission subsequently received one additional comment letter on the NYSE Arca Proposal.⁷ On July 11, 2012, the Commission instituted proceedings to determine whether to approve or disapprove the proposed rule change.⁸ The Commission thereafter received six comment letters and a response letter from the Exchange.⁹

¹ 15 U.S.C. 78s(b)(1).

² 17 CFR 240.19b-4.

³ See Securities Exchange Act Release No. 66966 (May 11, 2012), 77 FR 29419.

⁴ See Letter from Gus Sauter, Managing Director and Chief Investment Officer, Vanguard, dated June 7, 2012; and Letter from Ari Burstein, Senior Counsel, Investment Company Institute, dated June 7, 2012.

⁵ 15 U.S.C. 78s(b)(2).

⁶ See Securities Exchange Act Release No. 67222 (June 20, 2012), 77 FR 38116 (June 26, 2012).

⁷ See Letter from John T. Hyland, CFA, Chief Investment Officer, United States Commodity Funds LLC, dated June 27, 2012.

⁸ See Securities Exchange Act Release No. 67411, 77 FR 42052 (July 17, 2012).

⁹ See Letter from Joseph Cavatoni, Managing Director, and Joanne Medero, Managing Director, BlackRock, Inc., dated July 11, 2012; Letter from Stanislav Dolgopolov, Assistant Adjunct Professor, UCLA School of Law, dated August 15, 2012; Letter from James E. Ross, Global Head, SPDR Exchange Traded Funds, State Street Global Advisors, dated August 16, 2012; Letter from Ari Burstein, Senior Counsel, Investment Company Institute, dated August 16, 2012; Letter from F. William McNabb, Chairman and Chief Executive Officer, Vanguard, dated August 16, 2012; and Letter from Andrew Stevens, Legal Counsel, IMC Chicago, LLC d/b/a IMC Financial Markets, dated August 16, 2012. See Letter from Jane McGinness, EVP & Corporate Secretary, General Counsel, NYSE Markets, dated August 14, 2012.

Section 19(b)(2) of the Act ¹⁰ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on May 17, 2012. November 13, 2012 is 180 days from that date, and January 12, 2013 is 240 days from that date.

¹⁰ 15 U.S.C. 78s(b)(2).

The Commission finds it appropriate to designate a longer period within which to issue an order approving or disapproving the proposed rule change so that it has sufficient time to consider this proposed rule change, the issues raised in the comment letters that have been submitted in response to the proposed rule change, including comment letters submitted in response to the Order Instituting Proceedings, and the Exchange's responses to such comments.

Accordingly, the Commission, pursuant to Section 19(b)(2) of the Act,¹¹ designates January 12, 2013 as the date by which the Commission should either approve or disapprove the proposed rule change (File Number SR-NYSEArca-2012-37).

¹¹ 15 U.S.C. 78s(b)(2).

For the Commission, by the Division of Trading and Markets, pursuant to delegated authority.¹²
Kevin M. O'Neill,
Deputy Secretary.

¹² 17 CFR 200.30-3(a)(57).

[FR Doc. 2012-24734 Filed 10-5-12; 8:45 am]

BILLING CODE 8011-01-P